DEPARTMENT OF COMMERCE

National Oceanic and Atmospheric Administration

[I.D. 080200D]

South Atlantic Fishery Management Council; Public Meeting

AGENCY: National Marine Fisheries Service (NMFS), National Oceanic and Atmospheric Administration (NOAA), Commerce.

ACTION: Notice of public meeting.

SUMMARY: The South Atlantic Fishery Management Council (Council) will hold a meeting of its Habitat and Environmental Protection Advisory Panel (AP) in Charleston, SC.

DATES: The Habitat and Environmental Protection AP will meet on August 29, 2000, from 1:00 p.m. until 5:00 p.m., and on August 30, 2000, from 8:30 a.m. until 5:00 p.m.

ADDRESSES: These meetings will be held at the Town and Country Inn, 2008 Savannah Highway, Charleston, SC 29407; telephone: 843-571-1000 or 1-800/334-6660.

FOR FURTHER INFORMATION CONTACT: Kim Iverson, Public Information Officer; telephone: (843) 571-4366; fax: (843) 769-4520; email: kim.iverson@noaa.gov.

SUPPLEMENTARY INFORMATION: Issues to be discussed include but are not limited to; research efforts at offshore habitat areas “The Point” in North Carolina and “The Charleston Bump” in South Carolina, the development of North Carolina State Habitat Conservation Plans, sand mining and beach renourishment activities and policy statement development, ecosystem management-report to Congress, National Coalition for Marine Conservation report on prey/predator interactions and management implications, marine fiber optic cable placement, Gray's Reef State of the Reef Report, dolphin/ wahoo essential fish habitat, marine reserves and marine protected areas, and deepwater port development.

Although non-emergency issues not contained in this agenda may come before this group for discussion, those issues may not be the subject of formal action during this meeting. Action will be restricted to those issues specifically identified in this notice, and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) by August 21, 2000.

Dated: August 2, 2000.
Richard W. Surdi,
Acting Director, Office of Sustainable Fisheries, National Marine Fisheries Service.

[FR Doc. 00-19995 Filed 8-7-00; 8:45 am]

BILLING CODE 3510-22-F